DEPARTMENT OF JUSTICE

Notice of Lodging of Consent Decrees Under Clean Water Act

In accordance with Departmental policy, 28 CFR 50.7, notice is hereby given that two proposed consent decrees in United States v. James R. Chaplin, et al., C.A. No. 5:00-CV-118, were lodged on November 8, 2002, with the United States District Court for the Northern District of West Virginia.

The consent decrees resolve the United States' claims against James R. Chaplin and other defendants named in the complaint, pursuant to sections 309(b) and (d) of the Clean Water Act, 33 U.S.C. 1319(b) and (d). At the time the complaint was filed, the defendants owned and operated five apartment complexes and previously constructed two single family housing subdivisions, all located in the northern part of West Virginia. Defendants operated a wastewater treatment and disposal facility (“facility” or “facilities”) at each apartment complex and subdivision.

One consent decree with the defendants resolves the United States' claims that the defendants (a) discharged wastewater containing pollutants above limitations in applicable permits, (a) failed to properly operate and maintain the facilities, and (c) discharged pollutants from one facility without a proper permit. Under this consent decree, the defendants will pay a civil penalty of $175,000 and obtain a permit for the facility without a permit. Defendants will also implement injunctive relief, which includes having each facility inspected by a qualified contractor, making necessary repairs to each facility which the defendants continue to own and operate, and maintaining service contracts on the facilities.

In July 2000, Belmont Properties, Inc. (“Belmont”) purchased four of the apartment complexes and became managing and controlling partner of four defendant partnerships, through which defendants James R. Chaplin and Anna Chaplin owned and operated these four complexes. Under a second consent decree, Belmont has agreed to implement the same injunctive relief measures described above for the facilities at the complexes it now owns.

The Department of Justice will receive, for a period of thirty (30) days from the date of this publication, comments relating to the proposed consent decrees. Comments should be addressed to the Assistant Attorney General for the Environment and Natural Resources Division, PO Box 7611, U.S. Department of Justice, Washington, DC 20044-7611, and should refer to United States v. James R. Chaplin, et al. and DOJ Reference No. 90-5-1-06425.

The proposed consent decrees may be examined at the Office of the United States Attorney, 1100 Main Street, Suite 200, Wheeling, West Virginia 26003; and the Region III Office of the Environmental Protection Agency, 1650 Arch Street, Philadelphia, Pennsylvania 19103. Copies of the proposed decrees may be obtained by mail from the Consent Decree Library, PO Box 7611, U.S. Department of Justice, Washington, DC 20044-7611 or by faxing a request to Tonia Fleetwood, fax number (202) 514-0097, phone confirmation number (202) 514-1547. In requesting copies of the two consent decrees exclusive of exhibits, please enclose a check in the amount of $18.00 (.25 cents per page production costs), payable to the U.S. Treasury.

Robert D. Brook,
Assistant Chief, Environmental Enforcement Section, Environment and Natural Resources Division.

[FR Doc. 02-30155 Filed 11-26-02; 8:45 am]

BILLING CODE 4410-15-M